DEPARTMENT OF LABOR

EMPLOYMENT AND TRAINING ADMINISTRATION

[TA-W-55,742]

Rock-Tenn Company, Otsego, MI; Notice of Revised Determination on Reconsideration

On January 25, 2005, the Department issued an Affirmative Determination Regarding Application on Reconsideration applicable to workers and former workers of the subject firm. The notice will soon be published in the Federal Register.

The previous investigation initiated on October 6, 2004, resulted in a negative determination issued on November 8, 2004, based on the finding that imports of paperboard rolls did not contribute importantly to worker separations at the subject firm and no shift of production to a foreign source occurred. The denial notice was published in the Federal Register on December 9, 2004 (69 FR 71428).

In the request for reconsideration, the petitioner provided additional information regarding subject firm's customers. Upon further review, it was revealed that the Department did not request a list of declining domestic customers during the initial investigation due to the understanding that the subject firm produced paperboard rolls to satisfy the in-house demand.

Having conducted a detailed investigation on reconsideration, it was established that the subject firm supplied a number of affiliated facilities with low-density paperboard. The Department surveyed these facilities as customers of the subject firm. It was revealed that the major declining customer absolutely increased its imports of low-density paperboard in the relevant period. The imports accounted for a meaningful portion of the subject plant's lost sales and production.

In accordance with section 246 the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of section 246 of the Trade Act must be met. The Department has determined in this case that the requirements of section 246 have been met.

A significant number of workers at the firm are age 50 or over and possess skills that are not easily transferable. Competitive conditions within the industry are adverse.

Conclusion

After careful review of the additional facts obtained on reconsideration, I conclude that increased imports of articles like or directly competitive with those produced at Rock-Tenn Company, Otsego, Michigan, contributed importantly to the declines in sales or production and to the total or partial separation of workers at the subject firm. In accordance with the provisions of the Act, I make the following certification:

All workers of Rock-Tenn Company, Otsego, Michigan, who became totally or partially separated from employment on or after September 29, 2003 through two years from the date of this certification, are eligible to apply for adjustment assistance under Section 223 of the Trade Act of 1974, and are eligible to apply for alternative trade adjustment assistance under Section 246 of the Trade Act of 1974.

Signed in Washington, DC this 4th day of February 2005.
Elliott S. Kushner,
Certifying Officer, Division, of Trade Adjustment Assistance.

[FR Doc. E5-688 Filed 2-18-05; 8:45 am]

BILLING CODE 4510-30-P